DEPARTMENT OF HOMELAND SECURITY

[DHS-2013-0037]

Committee Name: Homeland Security Information Network Advisory Committee (HSINAC)

AGENCY: Office of Operations Coordination and Planning/Office of Chief Information Officer (OPS/OCIO), HSD.

ACTION: Committee Management; Notice of Federal Advisory Committee Meeting.

SUMMARY: The Homeland Security Information Network Advisory Committee (HSINAC) calls a full body, in-person meeting of its membership to receive all relevant information and facilitate development of recommendations to the HSIN Program Management Office (PMO) on three major issue areas including: (1) Progress in optimizing the HSIN R3 platform and potentially necessary reforms to the design of HSIN Central and prioritization of future HSIN development requirements to ensure optimal performance; (2) defining the strategic positioning of the HSIN R3 platform and resulting messaging and communications planning; and (3) at the direction and guidance of the HSIN PMO, developing recommendations for membership, agendas and operations plans for a series of newly established sub-committees.

DATES: The HSINAC will meet April 10-11, 2014 from 9-5 p.m. EST in Washington, DC.

ADDRESSES: The meeting will be held in Washington, DC at 131 M St. NE., 6th Floor Conference Room and virtually through HSIN Connect, an online Web-conferencing tool and via teleconference at 1-866-709-3157. The meeting will be open to the public. The meeting may conclude early on Friday, April 11, 2014 if the committee concludes its business. A conference call and HSIN Connect, an online Web-conferencing tool, session will be made available to all audiences including members of the general public. To access the meeting virtually visit https://share.dhs.gov/hsinac, and dial-in via teleconference at 1-866-709-3157 Conference Pin: 5713574. To enter the meeting virtually and follow the brief online, from https://share.dhs.gov/hsinac, click on “enter as a guest,” type in your name as a guest and click “submit.” The teleconference lines will be open for the public and the meeting brief will be posted beforehand on the Federal Register site https://www.federalregister.gov/. If the federal government is closed, the meeting will be rescheduled.

For information on facilities or services for individuals with disabilities or to request special assistance at the meeting, contact Michael Brody, michael.brody@hq.dhs.gov, 202-343-4211, as soon as possible.

To facilitate public participation, we are inviting public comment on the issues to be considered by the committee. Comments must be submitted in writing no later than April 1, 2014, and must be identified by the docket number—DHS-2013-0037—and may be submitted by one of the following methods:

• Federal eRulemaking Portal: http://www.regulations.gov. Follow the instructions for submitting comments.

• Email: Michael Brody, michael.brody@hq.dhs.gov. Please also include the docket number in the subject line of the message.

• Fax: 202-343-4294

• Mail: Michael Brody, Department of Homeland Security, OPS CIO-D Stop 0426, 245 Murray Lane SW., BLDG 410, Washington, DC 20528-0426.

Instructions: All submissions received must include the words “Department of Homeland Security” and the docket number (DHS-2013-0037) for this action. Comments received will be posted without alteration at http://www.regulations.gov, including any personal information provided.

Docket: For access to the docket to read background documents or comments received by the HSINAC go to http://www.regulations.gov and type the docket number of DHS-2013-0037 into the “search” field at the top right of the Web site.

A public comment period will be held during the meeting on Friday, April 11, 2014, from 3 p.m. to 3:15 p.m., and speakers are requested to limit their comments to 3 minutes. Please note that the public comment period may begin or end before the time indicated, following the last call for comments. Contact one of the individuals listed below to register as a speaker.

FOR FURTHER INFORMATION CONTACT: Designated Federal Officer, Michael Brody, michael.brody@hq.dhs.gov, Phone: 202-343-4211, Fax: 202-343-4294.

SUPPLEMENTARY INFORMATION: The Homeland Security Information Network Advisory Committee (HSINAC) is an advisory body to the Homeland Security Information Network (HSIN) Program Management Office. This committee provides advice and recommendations to the U.S. Department of Homeland Security (DHS) on matters relating to HSIN. These matters include system requirements, operating policies, community organization, knowledge management, interoperability and federation with other systems, and any other aspect of HSIN that supports the operations of DHS and its federal, state, territorial, local, tribal, international, and private sector mission partners. Notice of this meeting is given under the Federal Advisory Committee Act, 5 U.S.C. Appendix. The HSINAC provides advice and recommendations to DHS on matters relating to HSIN.

Agenda

The Agenda will have two major components. The first, Program Updates, will provide the HSINAC with information necessary to discuss and develop recommendations on the specified issue areas. The second, Recommendations Development, will involve deliberations by the HSINAC on three major issues areas, including: (1) HSIN R3 platform optimization; (2) HSIN R3 Strategic Positioning and Messaging Strategy; and (3) Membership, Agendas and Operations Planning for a New Sub-Committees.

1. HSIN Program Update

a. HSINAC Members receive HSIN Program Management Office (PMO) updates on the following key issues, and offer critical feedback, guidance and initial formulation of recommendations for future program enhancements:

i. The State of HSIN—Members are provided a strategic update on HSIN's progress, challenges and future plans by the HSIN Program Manager, and use this strategic outlook to guide the balance of the updates they will receive.

ii. Optimization of the HSIN platform—Members gain an understanding of what the PMO is doing to ensure peak efficiency for HSIN and offer guidance on measures the PMO must take to finalize this task;

iii. Development Priorities for FY14 Q3 and Q4—Members are provided detailed information on the PMO's development priorities for the balance of FY14 and will validate these plans;

iv. Portal Consolidation Accomplishments and Priorities, and LMS Service Offerings—Members are presented the latest on consolidation efforts with FLETC, elements of NPPD, and the United States Coast Guard, along with new Learning Management System updates, and then consider the program's future portal consolidation priorities;

v. Messaging Strategy—Members are given an overview of a new effort to define and deliver HSIN's messaging strategy with respect to a series of its service offerings and then partake in a short focus group session answering essential questions on HSIN's position in the information sharing market.

2. Recommendations Development

a. HSIN R3 Platform Optimization—The HSINAC will determine the substance of any and all recommendations necessary to ensure the HSIN R3 platform meets its performance requirements for users and the priority of future HSIN development planning;

b. HSIN R3 Strategic Positioning and Messaging Strategy—The HSINAC will develop recommendations to the HSIN PMO on how to properly position itself in the homeland security information sharing market and effectively communicate such positioning to HSIN users and stakeholders; and

c. Membership, Agendas and Operations Planning—the HSINAC will develop recommendations to the PMO on the membership, agendas and operations of a series of new sub-committees developed by the PMO in coordination with the HSINAC Chair.

• Public comment period

• Closing remarks

• Adjournment of the meeting

James Lanoue,
HSIN Acting Program Manager.

[FR Doc. 2014-04722 Filed 3-3-14; 8:45 am]

BILLING CODE 4410-10-P